CONSUMER PRODUCT SAFETY COMMISSION

[CPSC Docket No. 12-1]

Telephonic Prehearing Conference Cancellation

AGENCY: U.S. Consumer Product Safety Commission.

ACTION: Cancellation of Telephonic prehearing conference.

SUMMARY: Cancellation of Telephonic prehearing conference on September 25, 2012, in the matter of Maxfield and Oberton Holdings, LLC, CPSC Docket 12-1.

FOR FURTHER INFORMATION CONTACT: Katy J.L. Duke, Esq., U.S. Coast Guard ALJ Program, 504/671-2213.

Dated: September 21, 2012.
Todd A. Stevenson,
Secretary.

[FR Doc. 2012-23664 Filed 9-25-12; 8:45 am]

BILLING CODE 6355-01-P